DEPARTMENT OF ENERGY

Federal Energy Regulatory Commission

[Docket No. EL11-52-000]

Californians for Renewable Energy, Inc., Michael E. Boyd, Robert M. Sarvey v. California Public Utilities Commission, Pacific Gas and Electric Company Southern California Edison Company, San Diego Gas & Electric Company; Notice of Petition for Enforcement

Take notice that on July 12, 2011, Californians for Renewable Energy, Inc. (CARE), acting on behalf of its members, Michael E. Boyd, and Robert M. Sarvey, individually, (collectively Petitioners) filed a Petition for Enforcement, pursuant to section 210(h)(2) of the Public Utility Regulatory Policies Act of 1978 (PURPA), requesting the Federal Energy Regulatory Commission (Commission) to exercise its authority and initiate enforcement action against the California Public Utilities Commission, Pacific Gas and Electric Company, Southern California Edison Company, and San Diego Gas & Electric Company to ensure that PURPA regulations are properly and lawfully implemented.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on August 1, 2011.

Dated: July 13, 2011.
Kimberly D. Bose,
Secretary.

[FR Doc. 2011-18909 Filed 7-26-11; 8:45 am]

BILLING CODE 6717-01-P